DEPARTMENT OF AGRICULTURE

Food and Nutrition Service

Agency Information Collection Activities: Proposed Collection; Comment Request—Healthy Incentives Pilot (HIP) Evaluation

AGENCY: Food and Nutrition Service (FNS), United States Department of Agriculture (USDA).

ACTION: Notice.

SUMMARY: In accordance with the Paperwork Reduction Act of 1995, this notice invites the general public and other public agencies to comment on this proposed information collection. This collection is a new collection for the Food and Nutrition Service to examine the impact and implementation of the Healthy Incentives Pilot (HIP) that will begin in Hampden County, Massachusetts (MA) in November 2011.

DATES: Written comments must be received on or before April 8, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Steven Carlson, Office of Research and Analysis, Food and Nutrition Service/USDA, 3101 Park Center Drive, Room 1014, Alexandria, VA 22302. Comments may also be submitted via fax to the attention of Steven Carlson at 703-305-2576 or via e-mail to Steve.Carlson@fns.usda.gov. Comments will also be accepted through the Federal eRulemaking Portal. Go to http://www.regulations.gov, and follow the online instructions for submitting comments electronically.

All written comments will be open for public inspection at the Office of Research and Analysis, Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at 703-305-2017.

SUPPLEMENTARY INFORMATION: Title: Healthy Incentives Pilot (HIP) Evaluation.

OMB Number: 0584-NEW.

Expiration Date: Not yet determined.

Type of Request: New collection.

Abstract: The Healthy Incentive Pilot (HIP) is authorized by the Food, Conservation, and Energy Act of 2008, and it is expected to operate for 15 months in Hampden County, MA. HIP will provide financial incentives to Supplemental Nutrition Assistance Program (SNAP) households to encourage their purchase and consumption of fruits and vegetables. SNAP households chosen to participate in HIP will be eligible to earn incentives equal to 30% of their purchase price for eligible fruits and vegetables. The incentive payment will be added to the HIP participant's SNAP benefit account. Participants will be able to view their accumulated monthly value of incentives on their cash register receipt.

The objectives of the HIP evaluation are to:

• Estimate the impact of HIP on individual food consumption of SNAP recipients;

• Understand the factors that influence how HIP impacts SNAP recipients;

• Describe the implementation and operation of HIP;

• Understand the effect of HIP on the grantee and its partners; and

• Estimate the costs associated with HIP.

The data collection activities to be undertaken subject to this notice include:

• SNAP recipient phone surveys (with in-person follow-up) before program implementation, early (3 months) implementation, and late (12-months) implementation;

• Three SNAP recipient focus groups at early implementation and again at late implementation phase;

• Mail (with phone follow-up) surveys of participating and non-participating retailers pre-implementation and late implementation;

• Observations in 10 participating stores at pre-implementation, early implementation, and late implementation; and

• In-person interviews with HIP stakeholders (State and local SNAP officials, State and local partners, Electronic Benefit Transfer (EBT) vendors, third party processors, and integrated retailers) at pre-implementation, early, and late implementation.

To evaluate the effect of HIP on participating households, data will be collected from SNAP recipients in Hampden County, MA. To examine the implementation of the HIP program, data will be collected from retailers, State and local SNAP officials, State and local partners, EBT vendors, and third party processors.

Affected Public: Respondent groups identified include: (1) SNAP recipients; (2) retailers; (3) state and local officials; (4) state and local partners; and (5) EBT vendors, third party processors, and integrated retailers.

Estimated Number of Respondents: The total estimated number of respondents is 2,945. This includes: 2,638 SNAP recipients who will participate in phone surveys (70% will complete baseline interview, 80% and 75% will complete round 2 and round 3 interviews respectively; 10% subsample or 300 recipients will complete a second 24-hour dietary recall in rounds 2 and 3); an additional sample of 66 SNAP recipients who will participate in focus groups (90% response rate); 207 retailers (80% percent will complete survey); 19 State and local SNAP officials (89% will complete the interview); 6 State and local partners (83% will complete the interview); and 9 EBT vendors/third party processors/integrated retailers (89% will complete the interview).

Estimated Number of Responses per Respondent: Data from SNAP recipients will be collected three times, through telephone interviews, in-person interviews, and focus groups. A 10 percent subsample of the SNAP recipients will complete a second 24-hour dietary recall on a nonconsecutive day. Stakeholder data will be gathered through retailer surveys and observations; in-person interviews will also be conducted with State and local officials, State and local partners, EBT vendors, third party processors, and integrated retailers.

Estimated Total Annual Responses: 8,221.

Estimated Time per Response: About 35 minutes (0.58 hours). The estimated time of response varies from 3 to 90 minutes depending on respondent group, as shown in the table below.

Estimated Total Annual Burden on Respondents: 286,154 minutes (4769.24 hours). See the table below for estimated total annual burden for each type of respondent.

Respondent |  | Estimated number respondent | Responses annually per respondent | Total annual responses | Estimated average number of hours per response | Estimated total hours
SNAP recipients
Completed | 1,943 | 3 | 5,829 | 0.7672 | 4,472.01
Attempted | 695 | 3 | 2,085 | 0.0521 | 108.63
SNAP recipient focus groups
Completed | 60 | 1 | 60 | 1.0000 | 60.00
Attempted | 6 | 1 | 6 | 0.0500 | 0.30
Retailers
Completed | 165 | 1 | 165 | 0.5000 | 82.50
Attempted | 42 | 1 | 42 | 0.0500 | 2.10
Local and State SNAP Officials
Completed | 17 | 1 | 17 | 1.4118 | 24.00
Attempted | 2 | 1 | 2 | 0.0500 | 0.10
Local and State Partners
Completed | 5 | 1 | 5 | 1.5000 | 7.50
Attempted | 1 | 1 | 1 | 0.0500 | 0.05
EBT vendors/3rd party processors
Completed | 8 | 1 | 8 | 1.5000 | 12.00
Attempted | 1 | 1 | 1 | 0.0500 | 0.05
Totals | 2,945 |  | 8,221 |  | 4,769.24

Dated: January 25, 2011.
Julia Paradis,
Administrator, Food and Nutrition Service.

[FR Doc. 2011-2564 Filed 2-4-11; 8:45 am]

BILLING CODE 3410-30-P